DEPARTMENT OF COMMERCE

International Trade Administration

[A-821-802]

Uranium From the Russian Federation; Final Results of the Expedited Fourth Sunset Review of the Suspension Agreement

AGENCY: Enforcement and Compliance, International Trade Administration, Department of Commerce.

SUMMARY: As a result of this sunset review, the Department of Commerce (the Department) finds that termination of the Agreement Suspending the Antidumping Investigation on Uranium from the Russian Federation (Suspension Agreement) and the suspended investigation would be likely to lead to continuation or recurrence of dumping. The magnitude of the dumping margin likely to prevail is indicated in the “Final Results of Review” section of this notice.

DATES: Effective June 9, 2017.

FOR FURTHER INFORMATION CONTACT: Sally C. Gannon or Jill Buckles, Enforcement and Compliance, International Trade Administration, U.S. Department of Commerce, 1401 Constitution Avenue NW., Washington, DC 20230; telephone: (202) 482-0162 or (202) 482-6230, respectively.

SUPPLEMENTARY INFORMATION:

Background

On February 3, 2017, the Department published the notice of initiation of the fourth sunset review of the Suspension Agreement and suspended antidumping duty investigation on uranium from the Russian Federation, pursuant to section 751(c) of the Tariff Act of 1930, as amended (the Act).¹ Pursuant to 19 CFR 351.218(d)(1)(i), the Department received timely and complete notices of intent to participate in this sunset reviews from Louisiana Energy Services, LLC (LES), Power Resources, Inc. (PRI) and Crow Butte Resources, Inc. (Crow Butte), and Centrus Energy Corp. and United States Enrichment Corporation (USEC) (collectively, Centrus) on February 21, 2017, and from ConverDyn on February 24, 2017. On March 6, 2017, the Department received complete substantive responses from LES, PRI and Crow Butte, and Centrus (collectively, the domestic interested parties) within the 30-day period specified in 19 CFR 351.218(d)(3)(i).² The Department did not receive substantive responses from any respondent interested party. As a result, pursuant to section 751(c)(3)(B) of the Act and 19 CFR 351.218(e)(1)(ii)(C)(2), the Department conducted an expedited sunset review of this Suspension Agreement.

¹ See Initiation of Five-Year (“Sunset”) Reviews, 82 FR 9193 (February 3, 2017) (Initiation).

² See “Uranium from Russia: Louisiana Energy Services, LLC's Substantive Response to the Notice of Initiation” from Louisiana Energy Services dated March 6, 2017; “Uranium from the Russian Federation: Substantive Response to the Notice of Initiation” from Power Resources and Crow Butte Resources dated March 6, 2017; “Uranium from the Russian Federation: Substantive Response to Notice of Initiation of Five-Year Review” from Centrus Energy Corp. and United States Enrichment Corporation dated March 6, 2017.

Scope of the Agreement

The product covered by the Suspension Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Uranium ore from Russia that is milled into U3O8 and/or converted into UF6 in another country prior to direct and/or indirect importation into the United States is considered uranium from Russia and is subject to the terms of this Suspension Agreement.

For purposes of this Suspension Agreement, uranium enriched in U²³⁵ or compounds of uranium enriched in U²³⁵ in Russia are covered by this Suspension Agreement, regardless of their subsequent modification or blending. Uranium enriched in U²³⁵ in another country prior to direct and/or indirect importation into the United States is not considered uranium from Russia and is not subject to the terms of this Suspension Agreement.³

³ The second amendment of two amendments to the Suspension Agreement effective on October 3, 1996, in part included within the scope of the Suspension Agreement for Russian uranium which had been enriched in a third country prior to importation into the United States. According to the amendment, this modification remained in effect until October 3, 1998. See Amendments to the Agreement Suspending the Antidumping Investigation on Uranium from the Russian Federation, 61 FR 56665, 56667 (November 4, 1996).

HEU is within the scope of the underlying investigation, and HEU is covered by this Suspension Agreement. For the purpose of this Suspension Agreement, HEU means uranium enriched to 20 percent or greater in the isotope uranium-235.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive.

Analysis of Comments Received

All issues raised in this sunset review, including the likelihood of continuation or recurrence of dumping and the magnitude of the margin of dumping likely to prevail if the Suspension Agreement is terminated, are addressed in the Issues and Decision Memorandum.⁴ The Issues and Decision Memorandum is a public document and is on file electronically via Enforcement and Compliance's Antidumping and Countervailing Duty Centralized Electronic Service System (ACCESS). ACCESS is available to registered users at http://access.trade.gov and is available in the Central Records Unit, room B8024 of the main Department of Commerce building. In addition, a complete version of the Issues and Decision Memorandum can be accessed directly on the Internet at http://enforcement.trade.gov/frn.

⁴ See Memorandum from Sally C. Gannon, Director for Bilateral Agreements, to Ronald K. Lorentzen, Acting Assistant Secretary for Enforcement and Compliance, “Issues and Decision Memorandum for the Fourth Sunset Review of the Agreement Suspending the Antidumping Investigation on Uranium from the Russian Federation; Final Results,” (June 5, 2017) (Issues and Decision Memorandum).

Final Results of Review

Pursuant to section 752(c) of the Act, the Department determines that termination of the Suspension Agreement and suspended investigation on uranium from the Russian Federation would likely lead to continuation or recurrence of dumping, and that the magnitude of the margin of dumping likely to prevail if the suspension agreement is terminated would be 115.82 percent.

Notification Regarding Administrative Protective Order

This notice also serves as the only reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

We are issuing and publishing these results and notice in accordance with sections 751(c), 752(c), and 777(i)(1) of the Act and 19 CFR 351.218.

Dated: June 5, 2017.
Ronald K. Lorentzen,
Acting Assistant Secretary for Enforcement and Compliance.

[FR Doc. 2017-11987 Filed 6-8-17; 8:45 am]

BILLING CODE 3510-DS-P